DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 76 FR 18560-18561 dated April 4, 2011).

This notice reflects organizational changes in the Health Resources and Services Administration. Specifically, this notice updates the functional statement for the Maternal and Child Health Bureau (RM) by creating the Division of Home Visiting and Early Childhood Systems (RM8); and moving the Home Visiting function from the Division of Child, Adolescent and Family Health (RM3) to the Division of Home Visiting and Early Childhood Systems (RM8).

Chapter RM—Maternal and Child Health Bureau

Section RM-10, Organization

Delete in its entirety and replace with the following:

The Office of the Associate Administrator (RM) is headed by the Associate Administrator, Maternal and Child Health Bureau (MCHB), who reports directly to the Administrator, Health Resources and Services Administration. MCHB includes the following components:

(1) Office of the Associate Administrator (RM);

(2) Office of Operations and Management (RM1);

(3) Division of Services for Children with Special Health Needs (RM2);

(4) Division of Child, Adolescent and Family Health (RM3);

(5) Division of Research, Training and Education (RM4);

(6) Division of Healthy Start and Perinatal Services (RM5);

(7) Division of State and Community Health (RM6);

(8) Office of Epidemiology, Policy and Evaluation (RM7); and

(9) Division of Home Visiting and Early Childhood Systems (RM8).

Section RM-20, Functions

(1) Delete the functional statement for the Division of Child, Adolescent and Family Health (RM3) and replace in its entirety; (2) establish the Division of Home Visiting and Early Childhood Systems (RM8); and (3) move the Home Visiting function from the Division of Child, Adolescent and Family Health (RM3) to the newly established Division of Home Visiting and Early Childhood Systems (RM8).

Division of Child, Adolescent, and Family Health (RM3)

The Division of Child, Adolescent, and Family Health provides national leadership in planning, directing, coordinating, monitoring, and evaluating national programs focusing on the promotion of health and prevention of disease and injury among children, adolescents, young adults and their families with special emphasis on the development and implementation of family-centered, comprehensive, coordinated, community-based and culturally competent systems of care for such populations. Specifically, the Division: (1) Administers a program which supports the development of systems of care and services for children, adolescents, young adults and their families; (2) develops policies and guidelines and promulgates standards for professional services and effective organization and administration of health programs for children, adolescents, young adults and their families; (3) accounts for the administration of funds and other resources for grants, contracts, and programmatic consultation and assistance; (4) coordinates with MCHB Divisions and Offices in promoting program objectives and the mission of the Bureau; (5) serves as the focal point within the Bureau in implementing programmatic statutory requirements for State programs for children, adolescents, young adults and their families; (6) provides consultation and technical assistance to State programs for children, adolescents, young adults and their families and to local communities, consistent with a Bureau-wide technical assistance consultation plan, working with other agencies and organizations; (7) provides liaison with public, private, professional and voluntary organizations on programs designed to improve services for children, adolescents, young adults and their families; (8) carries out a national program supporting Child Death Review systems; (9) carries out a national program on school health activities; (10) carries out a national program designed to improve the provision of emergency medical services for children; (11) carries out a national program designed to improve the provision of oral health services for children; (12) carries out a national program on injury prevention for children and adolescents; (13) coordinates within this Agency and with other Federal programs (particularly Title XIX of the Social Security Act) to extend and improve comprehensive, coordinated services and promote integrated State-based systems of care for children, adolescents, young adults and their families; (14) disseminates information on preventive health services and advances in the care and treatment of children, adolescents, young adults and their families; (15) participates in the development of strategic plans, regulatory activities, policy papers, legislative proposals, and budget submissions relating to health services for children, adolescents, young adults and their families; (16) provides a focus for international health activities for the Bureau for services for children, adolescents, and their families; and (17) administers funds and other resources for grants, contracts, and cooperative agreements.

Division of Home Visiting and Early Childhood Systems (RM8)

The Division of Home Visiting and Early Childhood Systems plans, develops, implements, directs, monitors, and evaluates national programs to promote, improve, and maintain the health and development of young children (through 8 years of life) and their families. Specifically, the Division conducts the following activities: (1) Serves as a national focus for leadership in and coordination of Federal, regional, State, local, and non-governmental efforts to define the health and development issues of young children and their relationship to the family to identify problems and opportunities and assist in the development of programs that address such problems and promote opportunities to enhance wellness; (2) develops, interprets, and/or disseminates policies, regulations, standards, guidelines, new knowledge, and program information for the various programs and relevant services; (3) establishes and maintains cooperative relationships within this Agency, with other Federal agencies, and with other relevant public and private organizations to extend and improve health, safety, research, educational and training programs focused on young children and their families; (4) carries out, in collaboration with the Administration for Children and Families, a national maternal, infant and early childhood home visiting program; (5) administers and manages a program of grants and contracts that will enhance services to improve and promote the health and safety of young children and their families; (6) coordinates within this Agency and with other Federal programs to extend and improve comprehensive coordinated services and promote integrated state-based systems of care for this population; and (7) provides technical assistance and professional consultation to field and headquarters staff, to State and local health personnel, to other Federal agencies, and to voluntary and professional organizations on all aspects of health and safety and provision of appropriate care for this population.

Section RM-30, Delegations of Authority

All delegations of authority and re-delegations of authority made to HRSA officials that were in effect immediately prior to this reorganization, and that are consistent with this reorganization, shall continue in effect pending further re-delegation.

This reorganization is upon date of signature.

Dated: July 25, 2011.
Mary K. Wakefield,
Administrator.

[FR Doc. 2011-19272 Filed 7-28-11; 8:45 am]

BILLING CODE 4165-15-P